DEPARTMENT OF TRANSPORTATION

Federal Transit Administration

Intent To Prepare an Environmental Impact Statement for a Proposed Light Rail Transit Line in Detroit, MI

AGENCY: Federal Transit Administration (FTA), DOT.

ACTION: Notice of Intent to Prepare an Environmental Impact Statement.

SUMMARY: The Federal Transit Administration (FTA), as the federal lead agency, and the City of Detroit (the City) intend to prepare an Environmental Impact Statement (EIS) for the proposed Woodward Avenue Light Rail Transit (LRT) project in Detroit, Michigan. The proposed project, described more completely within, is an LRT line that would begin in downtown Detroit near the Detroit River and extend northwest along Woodward Avenue (M-1), terminating near Eight-Mile Road (M-102) in Detroit, Wayne County, Michigan. The purpose of this notice is to alert interested parties regarding the intent to prepare the EIS, to provide information on the nature of the proposed project and possible alternatives, and to invite public participation in the EIS process.

DATES: Written comments on the scope of the EIS, including the project's purpose and need, the alternatives to be considered, the impacts to be evaluated, and the methodologies to be used in the evaluations should be sent to the Headquarters office of FTA on or before September 13, 2010. See ADDRESSES below for the address to which written comments may be sent. A public scoping meeting, at which questions about the project will be addressed and written comments will be accepted, will be held on the following date:

• Saturday, August 14, 2010; 11 a.m. to 1 p.m.; at the Considine Little Rock Family Life Center (Auditorium), 8904 Woodward Avenue, Detroit, MI 48202. Telephone (313) 876-0131

• Saturday, August 14, 2010; 5 p.m. to 7 p.m.; at the Considine Little Rock Family Life Center (Auditorium), 8904 Woodward Avenue, Detroit, MI 48202. Telephone (313) 876-0131

The building used for the scoping meetings is accessible to persons with disabilities. Any individual who requires special assistance, such as a sign language interpreter, to participate in the scoping meeting should contact Linnette Phillips, Public Involvement Coordinator, at Pierce, Monroe & Associates, LLC at (313)-961-1940 or lphillips@pierce-monroe.com, five days prior to the meeting.

Information describing the project purpose and need and the alternatives proposed for analysis will be available at the meetings and on the project Web site at http://www.woodwardlightrail.com. Paper copies of the information materials may also be obtained from Mr. Tim Roseboom, Manager, Strategic Planning & Scheduling Division, City of Detroit Department of Transportation at (313)-833-1196 or timros@detroitmi.gov. Representatives of Native American tribal governments and of all federal, state, regional and local agencies that may have an interest in any aspect of the project will be invited to be participating or cooperating agencies, as appropriate.

ADDRESSES: Written comments will be accepted at the public scoping meetings or they may be sent to: Ms. Tricia Harr, AICP, Federal Transit Administration Headquarters, 1200 New Jersey Avenue, SE., Washington, DC 20590, e-mail tricia.harr@dot.gov.

FOR FURTHER INFORMATION CONTACT: Ms. Tricia Harr, AICP, Federal Transit Administration, 1200 New Jersey Avenue, SE., E43-105, Washington, DC 20590, phone 202-366-0486, e-mail tricia.harr@dot.gov.

SUPPLEMENTARY INFORMATION:

Scoping

FTA and the City of Detroit invite all interested individuals and organizations, public agencies, and Native American Tribes to comment on the scope of the EIS for the proposed LRT line, including the project's purpose and need, the alternatives to be studied, the impacts to be evaluated, and the evaluation methods to be used. Comments should address (1) feasible alternatives that may better achieve the project's purpose and need with fewer adverse impacts, and (2) any significant environmental impacts relating to the alternatives.

“Scoping” as described in the regulations implementing the National Environmental Policy Act (NEPA) (Title 40 of the Code of Federal Regulations (CFR) 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence consistent with the ultimate objectives of the NEPA implementing regulations—“to make the environmental impact statement process more useful to decision makers and the public; and to reduce paperwork and the accumulation of extraneous background data, in order to emphasize the need to focus on real environmental issues and alternatives * * * [by requiring] impact statements to be concise, clear, and to the point, and supported by evidence that agencies have made the necessary environmental analyses” (Executive Order 11991, of May 24, 1977). Transit projects may also generate environmental benefits; these should be highlighted as well—the impact statement process should draw attention to positive impacts, not just negative impacts.

Once the scope of the environmental study, including significant environmental issues to be addressed, is settled, an annotated outline of the document will be prepared and shared with participating agencies and posted on the project Web site. The outline serves at least three worthy purposes, including (1) documenting the results of the scoping process; (2) contributing to the transparency of the process; and (3) providing a clear roadmap for concise development of the environmental document.

Purpose and Need for the Project

The purpose of the LRT project is to improve public transit service and provide greater mobility options for the Woodward Avenue Corridor; improve transportation equity among all travelers; improve transit capacity along the Corridor; improve linkages to major activity centers along the Corridor; and support the City's economic development goals and encourage reinvestment in Detroit's urban core.

The need for the project is based on the following considerations: Strong existing bus ridership and large potential ridership due to major activity centers along the Corridor; a heavily transit-dependent population along the Corridor; overcrowding, reliability issues, and lack of rapid transit alternatives with the current bus system; air quality issues due to the region's nonattainment status; and focus of local policy on transit improvements rather than roadway improvements as part of a more balanced and sustainable approach to future growth.

The proposed LRT system represents a major step to promote regional and local rapid transit improvements in Southeast Michigan.

Project Location and Environmental Setting

The proposed project area lies along Woodward Avenue in central Detroit. The limits of the project area are the Detroit River in the south and Eight Mile Road (M-102) in the north. The project area is highly developed, with significant industrial and commercial (retail and office) and residential (single- and multi-family) developments. The project area includes the City of Highland Park within the City of Detroit.

As the LRT extends northwest, it would cross I-75, Warren Avenue, I-94, Grand Boulevard, West Chicago Boulevard/Arden Park Boulevard, East Davison Road (M-8), and enter Highland Park. It would continue to extend northwest, passing the former Ford Motor Company Model T site on the east, cross McNicholas Road, run adjacent to the eastern boundary of Palmer Park, cross Seven Mile Road, run adjacent to the eastern boundary of Woodlawn Cemetery, run adjacent to the western boundary of the State Fair grounds, and terminate near Eight Mile Road. The extension would include 9.3 new route miles of rapid transit with new transit stations, parking facilities, and a vehicle storage and maintenance facility.

Possible Alternatives

The Detroit Department of Transportation (DDOT) completed the Detroit Transit Options for Growth Study (DTOGS) Alternative Analysis (AA) in 2008, which evaluated potential corridors, technology, and alignment alternatives. This AA Study is posted on the project Web site. The City selected Woodward Avenue as the Locally Preferred Alternative (LPA) with Light Rail Transit as the preferred modal option in April 2008. The LPA was amended into the Southeast Michigan Council of Government's (SEMCOG's) long-range transportation plan, Direction2035: The Regional Transportation Plan for Southeast Michigan (Direction2035), in June 2008, and the current fiscally constrained FY 2008-2011 Transportation Improvement Program (TIP). Accordingly, the following alternatives are proposed to be evaluated in the DEIS:

No Build Alternative: The No Build Alternative is defined as the existing transportation system, plus any committed transportation improvements. Committed transportation improvements include the highway and transit projects in SEMCOG's current fiscally constrained long-range transportation plan, Direction2035, as amended, except for the proposed Woodward Avenue LRT. The No Build Alternative serves as the NEPA baseline against which the environmental effects of other alternatives, including the proposed project, are measured. Under the No Build Alternative, the transit network within the project area is projected to be substantially the same as it is now, with bus service adjusted to meet anticipated demand. All elements of the No Build Alternative are included in each of the other alternatives.

LRT Alternatives: The LRT Alternatives would utilize LRT technology and operate along the Woodward Avenue alignment as described above. LRT is an electric railway that may use shared (street) or exclusive rights-of-way with multi-car trains or single cars powered electrically by overhead wire, boarding passengers at track level or car floor level.

Other refinements to the LRT alternatives will be considered as part of the Draft EIS alternatives' evaluation process, which includes refinement of the proposed alignment, project termini, operating plans, station locations, and/or design alternatives, such as median-running vs. curb-running location within the preferred alignment. While the environmental process will examine the entire 9.3 mile project, the first 3.4 miles of the project (from the Detroit River to Grand Boulevard) may be constructed and operated as an initial phase, with the remainder being constructed as a second phase.

In addition to the alternatives described above, other transit alternatives identified through the public and agency scoping process will be evaluated for potential inclusion in the EIS.

Possible Effects

The purpose of this EIS process is to study, in a public setting, the potentially significant effects of the proposed project and its alternatives on the quality of the human environment, as well as the natural environment. The AA Study and recent reviews of the study area suggest that the impact areas of investigation for this proposed transit project include, but are not limited to: Traffic and parking; historic and cultural resources; noise and vibration; community impacts; and business impacts. Investigation will reveal if and to what degree the proposed project would affect those areas. Measures to avoid, minimize, or mitigate any adverse impacts will be identified and presented.

FTA Procedures

The regulations implementing NEPA, as well as provisions of the Safe, Accountable, Flexible, Efficient Transportation Equity Act: A Legacy for Users (SAFETEA-LU), call for public involvement in the EIS process. Section 6002 of SAFETEA-LU (23 U.S.C. 139) requires that FTA and the City do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. Any Federal or non-Federal agency or Native American tribe interested in the proposed project that does not receive an invitation to become a participating agency should notify at the earliest opportunity the Project Manager identified above under ADDRESSES.

A comprehensive public involvement program and a Coordination Plan for public and interagency involvement will be developed for the project and posted on the project's Web site at http://www.woodwardlightrail.com. The public involvement program includes a full range of activities including maintaining the project Web site and outreach to local officials, community and civic groups, and the public. Specific activities or events for involvement will be detailed in the project's public participation plan.

Paperwork Reduction

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific written request for a complete printed set of environmental documents is received by the close of the scoping process by the Project Manager identified under ADDRESSES, FTA and its grantees will distribute only the executive summary and a Compact Disc (CD) of the complete environmental document. A complete printed set of the environmental document will be available for review at the project sponsor's offices and elsewhere; an electronic copy of the complete environmental document will also be available on the project Web site.

Other

The City is expecting to seek New Starts funding for the proposed project under 49 United States Code 5309 and will, therefore, be subject to New Starts regulations (49 Code of Federal Regulations (CFR) Part 611). The New Starts regulations also require the submission of certain project-justification and local financial commitment information to support a request to FTA for approval into the Preliminary Engineering phase of the New Starts review process. Pertinent New Starts evaluation criteria will be included in the EIS.

The EIS will be prepared in accordance with NEPA and its implementing regulations issued by the Council on Environmental Quality (40 CFR Parts 1500-1508) and with the FTA/Federal Highway Administration regulations “Environmental Impact and Related Procedures” (23 CFR Part 771). Related environmental procedures to be addressed during the NEPA process include, but are not limited to, Executive Order 12898 on Environmental Justice; Section 106 of the National Historic Preservation Act; and Section 4(f) of the DOT Act (49 U.S.C. 303).

Issued on: July 23, 2010.
Marisol Simon,
Regional Administrator, Federal Transit Administration Region V, Chicago, Illinois.

[FR Doc. 2010-18703 Filed 7-29-10; 8:45 am]

BILLING CODE P